DEPARTMENT OF COMMERCE

National Oceanic and Atmospheric Administration

[0648-XR054]

Endangered and Threatened Species; Take of Anadromous Fish

AGENCY: National Marine Fisheries Service (NMFS), National Oceanic and Atmospheric Administration (NOAA), Department of Commerce.

ACTION: Notice; availability of a Hatchery and Genetic Management Plan for public comment.

SUMMARY: Notice is hereby given that NMFS has received a Hatchery and Genetic Management Plan (HGMP) outlining a program rearing and releasing Type-N coho salmon in the Columbia River Estuary, operated by the Washington Department of Fish and Wildlife (WDFW), pursuant to Limit 5 of the NMFS Endangered Species Act (ESA) Section 4(d) Rule for salmon and steelhead. This document serves to notify the public of the availability and opportunity to comment on the HGMP.

DATES: Comments must be received at the appropriate address (see ADDRESSES) no later than 5 p.m. Pacific time on November 4, 2019. Comments received after this date may not be considered.

ADDRESSES: Written comments should be addressed to the NMFS Sustainable Fisheries Division, 1201 NE Lloyd Blvd., Portland, OR 97232. Comments may be submitted by email. The mailbox address for providing email comments is: Hatcheries.Public.Comment@noaa.gov. Include in the subject line of the email comment the following identifier: Comments on Elochoman/Beaver Creek Hatchery program.

FOR FURTHER INFORMATION CONTACT: James Archibald at (503) 230-5425 or by email at james.archibald@noaa.gov.

SUPPLEMENTARY INFORMATION:

ESA-Listed Species Covered in This Notice

• Lower Columbia River Chinook Salmon (Oncorhynchus tshawytscha): threatened, naturally and artificially propagated;

• Lower Columbia River Coho (Oncorhynchus kisutch): threatened, naturally and artificially propagated;

• Lower Columbia River Steelhead (Oncorhynchus mykiss): threatened, naturally and artificially propagated;

• Lower Columbia River Chum (Oncorhynchus keta): endangered, naturally and artificially propagated.

Background

Section 9 of the ESA and Federal regulations prohibit the “taking” of a species listed as endangered or threatened. The term “take” is defined under the ESA to mean harass, harm, pursue, hunt, shoot, wound, kill, trap, capture, or collect, or to attempt to engage in any such conduct. NMFS may make exceptions to the take prohibitions in section 9 of the ESA for hatchery programs that are approved by NMFS under Limit 5 of section 4(d) of the ESA (50 CFR 223.203(b)).

The operator, WDFW, submitted an HGMP to NMFS pursuant to NMFS' 4(d) Rule for salmon and steelhead for the Elochoman Type-N coho salmon hatchery program in the Columbia River Estuary.

NMFS has evaluated the operations of this proposed coho salmon program for its effects on ESA-listed salmon and steelhead populations in the Columbia River, as part of its 2017 Mitchell Act Biological Opinion, and found that the operations of the program would not jeopardize listed species or adversely modify their designated critical habitat.

Approving the HGMP under Limit 5 of the 4(d) rule would limit application of take prohibitions for ESA-listed salmon and steelhead associated with the operation of the program. Prior to HGMP approval and the drafting of a decision memo, NOAA Fisheries is seeking public review and comment on the HGMP.

The program is intended to contribute to the survival and recovery of Lower Columbia River coho salmon in the Columbia River Estuary, and enhance fishing opportunity for tribal, commercial, and recreational fisheries.

Authority: 16 U.S.C. 1531-1543; 16 U.S.C. 1361 et seq.

Dated: September 30, 2019.
Angela Somma,
Chief, Endangered Species Conservation Division, Office of Protected Resources, National Marine Fisheries Service.

[FR Doc. 2019-21589 Filed 10-3-19; 8:45 am]

BILLING CODE 3510-22-P